NATIONAL SCIENCE FOUNDATION

Proposal Review Panel for Computing and Communication Foundations; Notice of Meeting

In accordance with the Federal Advisory Committee Act (Pub. L. 92-463, as amended), the National Science Foundation announces the following meeting:

Name: Proposal Review Panel for Expeditions in Computing (EIC) Program (#1192) Site Visit.

Date/Time: December 9, 2014, 6:00 p.m.-9:00 p.m.; December 10, 2014, 8:00 a.m.-8:00 p.m.; December 11, 2014, 8:30 a.m.-3:00 p.m.

Place: Yale University, New Haven, Connecticut.

Type of Meeting: Partial closed.

Contact Person For More Information: Ephraim Glinert, National Science Foundation, 4201 Wilson Boulevard, Room 1125, Arlington, VA 22230. Telephone: (703) 292-8950.

Purpose Of Meeting: To assess the progress of the EIC Award: CCF-1139078, Collaborative Research: Socially Assistive Robots”, and to provide advise and recommendations concerning further NSF support for the project.

Agenda: EIC Site Visit.

Tuesday, December 9, 2014

6:00 p.m. to 9:00 p.m.: Closed. Site Team and NSF Staff meets to discuss Site Visit materials, review process and charge.

Wednesday, December 10, 2014

8:00 a.m. to 1:00 p.m.: Open. Presentations by Awardee Institution, faculty staff and students, to the Site Team and NSF Staff; Discussions and question and answer sessions.

1:00 p.m.-8:00 p.m.: Closed. Draft report on education and research activities.

Thursday, December 11, 2014

8:30 a.m.-Noon: Open. Response presentations by Site Team and NSF Staff Awardee Institution; Discussions and question and answer sessions.

Noon to 3:00 p.m.: Closed. Complete written site visit report with preliminary recommendations.

Reason For Closing: The proposals being reviewed include information of a proprietary or confidential nature, including technical information; financial data, such as salaries; and personal information concerning individuals associated with the proposals. These matters are exempt under 5 U.S.C. 552b(c), (4) and (6) of the Government in the Sunshine Act.

Dated: November 3, 2014.
Suzanne Plimpton,
Acting Committee Management Officer.

[FR Doc. 2014-26364 Filed 11-5-14; 8:45 am]

BILLING CODE 7555-01-P